NUCLEAR REGULATORY COMMISSION

[NRC-2009-0517; Docket Nos. 50-250 and 50-251; License Nos. DPR-31 and DPR-41]

Florida Power and Light Company; Receipt of Request for Action Under 10 CFR 2.206; Correction Notice

A notice of receipt of a request for action under Title 10 of the Code of Federal Regulations (10 CFR) Section 2.206 of the Commission's regulations was previously published on November 30, 2009 (74 FR 62609). In the petition dated January 11, 2009, Mr. Thomas Saporito had requested that the NRC take action with regard to Florida Power & Light Company's Turkey Point Nuclear Generating Units 3 and 4. The previous notice listed the issues that would be the subject of the Petition Review Board's review. That list omitted an issue that is included below:

The retention bonus agreement requires a promise to not make derogatory statements against Florida Power & Light Company.

Dated at Rockville, Maryland, this 11th day of December 2009.
For the Nuclear Regulatory Commission.
Thomas B. Blount,
Deputy Director, Division of Policy and Rulemaking, Office of Nuclear Reactor Regulation.

[FR Doc. E9-30383 Filed 12-21-09; 8:45 am]

BILLING CODE 7590-01-P